LIBRARY OF CONGRESS

Copyright Office

37 CFR Part 201

[Docket No. 2005-6]

Statutory Cable, Satellite, and DART License Reporting Practices

AGENCY: U.S. Copyright Office, Library of Congress.

ACTION: Notice of proposed rulemaking; extension of comment period.

SUMMARY: The United States Copyright Office is extending the deadlines for the submission of written comments in response to its December 1, 2017 notice of proposed rulemaking concerning the royalty reporting practices of cable operators under section 111 and proposed revisions to the Statement of Account forms, and on proposed amendments to the Statement of Account filing requirements.

DATES: The comment period for the notice of proposed rulemaking, published on December 1, 2017 (82 FR 56926), is extended. Initial written comments must be received no later than 11:59 p.m. Eastern Time on March 16, 2018. Written reply comments must be received no later than 11:59 p.m. Eastern Time on April 6, 2018.

ADDRESSES: For reasons of government efficiency, the Copyright Office is using the regulations.gov system for the submission and posting of public comments in this proceeding. All comments are therefore to be submitted electronically through regulations.gov. Specific instructions for submitting comments are available on the Copyright Office website at https://copyright.gov/rulemaking/section111. If electronic submission of comments is not feasible due to lack of access to a computer and/or the internet, please contact the Office using the contact information below for special instructions.

FOR FURTHER INFORMATION CONTACT: Sarang V. Damle, General Counsel and Associate Register of Copyrights, by email at sdam@loc.gov, Regan A. Smith, Deputy General Counsel, by email at resm@loc.gov, or Anna Chauvet, Assistant General Counsel, by email at achau@loc.gov, or any of them by telephone at 202-707-8350.

SUPPLEMENTARY INFORMATION: On December 1, 2017, the Office issued a notice of proposed rulemaking (“NPRM”) on proposed rules governing the royalty reporting practices of cable operators under section 111 and proposed revisions to the Statement of Account forms, and on proposed amendments to the Statement of Account filing requirements.¹ After determining that meetings with interested parties might be beneficial and that reply comments would be appropriate for this rulemaking, on December 11, 2017, the Office issued a notice of ex-parte communication and request for reply comments.²

¹ 82 FR 56926 (Dec. 1, 2017).

² 82 FR 58153 (Dec. 11, 2017).

On December 13, 2017, NCTA—The Internet & Television Association submitted a motion seeking to extend the initial comment period until March 16, 2018, with written comments due by April 2, 2018.³

³ COLC-2017-0013-0003.

To ensure that commenters have sufficient time to respond to the NPRM, the Office is extending the deadline for the submission of initial written comments to 11:59 p.m. Eastern Time on March 16, 2018. Written reply comments must be received no later than 11:59 p.m. Eastern Time on April 6, 2018.

Dated: December 19, 2017.
Karyn Temple Claggett,
Acting Register of Copyrights and Director of the U.S. Copyright Office.

[FR Doc. 2017-27933 Filed 12-26-17; 8:45 am]

BILLING CODE 1410-30-P